NATIONAL COMMISSION ON LIBRARIES AND INFORMATION SCIENCE

Sunshine Act Meeting; Notice

AGENCY: U. S. National Commission on Libraries and Information Science

ACTION: Notice of meeting.

SUMMARY: The U.S. National Commission on Libraries and Information Science is holding an open business meeting to discuss administrative matters and NCLIS international projects.

DATE AND TIME: NCLIS Business Meeting—August 21, 2001, 3:30 p.m. to 5:30 p.m., Boston, Massachusetts.

ADDRESS: Meeting location—Boston Public Library, Mezzanine Conference Room (MCR), 700 Boylston Street, Copley Square, Boston, Massachusetts 02116.

STATUS: Open meeting.

FOR FURTHER INFORMATION CONTACT: Rosalie Vlach, Director, Legislative and Public Affairs, U.S. National Commission on Libraries and Information Science, 1110 Vermont Avenue, NW., Suite 820, Washington, DC 20005, e-mail rvlach@nclis.gov, fax 202-606-9203 or telephone 202-606 9200.

SUPPLEMENTARY INFORMATION: The Commission will discuss administrative matters and NCLIS international projects, including:

• International application of the results of the NCLIS study, A Comprehensive Assessment of Public Information Dissemination;

• Preparation for the International Leadership Conference on Information Literacy;

• NCLIS activities with the European Union;

• Transfer of the NCLIS Survey of U.S. Participation in International Organizations and Activities Which Address Major Library and Information Science Policy Issues to the School of Library Science, University of Pittsburgh; and

• Transfer of Sister Libraries: A White House Millennium Council Project to the United Nations Associated Libraries.

The meeting is open to the public, subject to space availability. To make special arrangements for physically challenged persons, contact Rosalie Vlach, Director, Legislative and Public Affairs, 1110 Vermont Avenue, NW., Suite 820, Washington, DC 20005, e-mail rvlach@nclis.gov, fax 202-606-9203 or telephone 202-606-9200.

Dated: July 11, 2001.
Judith C. Russell,
NCLIS Deputy Director.

[FR Doc. 01-18185 Filed 7-17-01; 2:13 pm]

BILLING CODE 7527-$$-P